DEPARTMENT OF COMMERCE

International Trade Administration

[A-570-888]

Floor-Standing, Metal-Top Ironing Tables and Certain Parts Thereof From the People's Republic of China: Final Results of the Expedited Sunset Review of the Antidumping Duty Order

AGENCY: Enforcement and Compliance, International Trade Administration, Department of Commerce.

DATES: Effective Date: September 3, 2015.

SUMMARY: On May 1, 2015, the Department initiated the second sunset review of the Order on Floor-Standing, Metal-Top Ironing Tables and Certain Parts Thereof (ironing tables) from the People's Republic of China (PRC) pursuant to section 751(c) of the Tariff Act of 1930, as amended (the Act).¹ The Department determined that it was appropriate to conduct an expedited review. The Department finds that revocation of this antidumping duty order would be likely to lead to continuation or recurrence of dumping up to the rate identified in the “Final Results of Review” section of this notice.

¹ See Initiation of Five-year (“Sunset”) Review, 80 FR 24900 (May 1, 2015) (Sunset Initiation).

FOR FURTHER INFORMATION CONTACT: Scott Hoefke, AD/CVD Operations, Office VI, Enforcement and Compliance, U.S. Department of Commerce, 14th Street and Constitution Avenue NW., Washington, DC 20230; telephone (202) 482-4947.

SUPPLEMENTARY INFORMATION:

Background

The antidumping duty order on ironing tables from the PRC was published on August 6, 2004.² The sunset review on the antidumping duty order on ironing tables from the PRC was initiated by the Department on May 1, 2015 pursuant to section 751(c) of the Act.³

² See Notice of Amended Final Determination at Less Than Fair Value and Antidumping Duty Order: Floor-Standing, Metal Top Ironing Tables and Certain Parts Thereof From the People's Republic of China, 69 FR 47868 (August 6, 2004).

³ See Sunset Initiation.

The Department received a notice of intent to participate from Home Products International, Inc. (Petitioner), within the deadline specified in 19 CFR 351.218(d)(1)(i). Petitioners are manufacturers of a domestic like product in the United States and, accordingly, are domestic interested parties pursuant to section 771(9)(C) of the Act.

On May 27, 2015, the Department received an adequate substantive response to the notice of initiation from Petitioners within the 30-day deadline specified in 19 CFR 351.218(d)(3)(i). The Department did not receive any responses from the respondent interested parties, i.e., ironing tables producers or exporters from the PRC. On the basis of the notice of intent to participate and adequate substantive response filed by Petitioners and the inadequate response from any respondent interested party, the Department decided to conduct an expedited sunset review of this order pursuant to section 751(c)(3)(B) of the Act and 19 CFR 351.218(e)(1)(ii)(C).

Scope of the Order

The merchandise subject to the order consists of floor-standing, metal-top ironing tables, assembled or unassembled, complete or incomplete, and certain parts thereof. The subject tables are designed and used principally for the hand ironing or pressing of garments or other articles of fabric. They are typically imported under heading 9403.20.0011 of the Harmonized Tariff Schedule of the United States (HTSUS), with the subject metal top and leg components are imported under heading 9403.90.8040. Although the HTSUS subheadings are provided for convenience and customs purposes, the written product description is dispositive. A full description of the scope of the order is contained in the “Issues and Decision Memorandum for Final Results of Expedited Second Sunset Review of Antidumping Duty Order on Floor-Standing, Metal-Top Ironing Tables and Certain Parts Thereof from the People's Republic of China,” (Decision Memorandum) dated concurrently with and hereby adopted by this notice.

Analysis of Comments Received

The issues discussed in the Decision Memorandum are the likelihood of continuation or recurrence of dumping, and the magnitude of the margins of dumping likely to prevail if the order was revoked. The analysis addresses the impact of the Final Modification for Reviews ⁴ on this review. Parties can find a complete discussion of all issues raised in this review and the corresponding recommendations in the Decision Memorandum, which is on file electronically via Enforcement and Compliance's Antidumping and Countervailing Duty Centralized Electronic Service System (ACCESS). ACCESS is available to registered users at http://access.trade.gov and is available to all parties in the Central Records Unit in room B8024 of the main Commerce building. In addition, a complete version of the Decision Memorandum can be accessed directly on the Internet at http://trade.gov/enforcement/. The signed Decision Memorandum and electronic versions of the Decision Memorandum are identical in content.

⁴ See Antidumping Proceedings: Calculation of Weighted-Average Dumping Margin and Assessment Rate in Certain Antidumping Duty Proceedings; Final Modification, 77 FR 8101 (February 14, 2012) (Final Modification for Reviews).

Final Results of Sunset Review

Pursuant to sections 752(c)(1) and (3) of the Act, we determine that revocation of the antidumping order of ironing tables from the PRC would be likely to lead to continuation or recurrence of dumping at weighted-average margins up to 157.68 percent.

Notification to Interested Parties

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: August 27, 2015.
Paul Piquado,
Assistant Secretary for Enforcement and Compliance.

[FR Doc. 2015-21946 Filed 9-2-15; 8:45 am]

BILLING CODE 3510-DS-P